DEPARTMENT OF THE INTERIOR

Bureau of Indian Affairs

[No. CIV 90-0957 LH/WWD ACE]

Notice of Distribution of Second Partial Settlement: Ramah Navajo Chapter v. Gale Norton

AGENCY: Bureau of Indian Affairs, Interior.

ACTION: Notice.

SUMMARY: A Notice of the Distribution of the Second Partial Settlement is contained in this announcement. The Notice describes procedures for the payment and distribution of the Net Common Fund, including eligibility for payment, necessary documentation and related information.

FOR FURTHER INFORMATION CONTACT: Michael P. Gross, Class Counsel, M.P. Gross & Associates, P.C., 460 St. Michael's Drive, #300, Santa Fe, NM 87505-7602; Telephone No. (505) 983-6686; Fax (505) 989-1096; E-mail address: mpgross@cnsp.com; or C. Bryant Rogers, Co-Class Counsel, Roth, VanAmberg, Rogers, Ortiz, Fairbanks & Yepa, LLP, Post Office Box 1447, Santa Fe, NM 87504-1447; Telephone No. (505) 988-8979; Fax (505) 983-7508; E-mail address: cbrogers@nmlawgroup.com; or Lloyd B. Miller, Co-Class Counsel for the DCSC Claim, Sonosky Chambers Sachse Miller and Munson, 900 W Fifth Street, Suite 700, Anchorage, Alaska 99501; Telephone No. (907) 258-6377; Fax (907) 2723-8332; E-mail address: lloyd@sonosky.net

SUPPLEMENTARY INFORMATION: This notice is published in accordance with the authority delegated by the Secretary of the Interior to the Assistant Secretary—Indian Affairs by 209 Departmental Manual 8.1.

The Class Distribution Notice in Ramah Navajo Chapter, Oglala Sioux Tribe, and Pueblo of Zuni, for themselves and on behalf of a class of persons similarly situated, v. Gale Norton, Secretary of the Interior, in her official capacity, United States Department of the Interior, Neal McCaleb, Assistant Secretary for Indian Affairs, in his official capacity, Earl Devaney, Inspector General, in his official capacity, and the United States of America (No. CIV 90-0957 LH/WWD ACE), before the United States District Court for the District of New Mexico, reads as set forth below.

Dated: May 5, 2003.
Aurene M. Martin,
Assistant Secretary—Indian Affairs.

Class Distribution Notice Number 1; Second Partial Settlement (PSA-2); Introduction

With this notice, Class Counsel are commencing distribution of the Second Partial Settlement (PSA-2) paid by Defendants on March 21, 2003. The Net Common Fund to be distributed pursuant to this notice is $22,230,594.49. A second distribution of the remaining balance in the Reserve Account (to which all interest accruals of the Net Common Fund and Reserve Account are deposited) will occur later. PSA-2 settles remaining claims for three years only: FY 1992, FY 1993, and FY 1994.

The proceeds of PSA-2 were deposited pursuant to Court Order in the Court Registry Investment System (CRIS) administered by the Clerk of the United States District Court for the Southern District of Texas (Houston). The Class has engaged the Albuquerque firm of REDW, LLC, as the Independent CPA (Settlement Administrator) to assist in the distribution of the Net Common Fund of these settlement proceeds. Class Counsel have also engaged Kenton Keckler, CPA to serve as Class Monitor. As such, Mr. Keckler has responsibility for confirming that the Independent CPA's implementation of the PSA-2 is in conformity with the provisions of the PSA-2 agreement as approved by the court.

The purpose of this Notice is:

1. To publish a provisional list of Class Members who may be eligible for an allocation from the Net Common Fund and to provide procedures to challenge the stated amount of BIA expenditures contained in the attachment. (See Attachment A for the Provisional List.)

2. To give notice to any tribe or tribal entity not on the provisional list of procedures it must follow in order to challenge omission from the list.

3. To give notice to all Class Members of the requirement to submit a timely Claim Form with requested documents and the deadline for submitting Claim Forms to the Settlement Administrator. (See Attachment B for the Claim Form.)

4. To outline procedures for Class Members who may wish to relinquish their shares in this settlement.

Any conflict between this Notice and the Second Partial Settlement Agreement (PSA-2) will be resolved in favor of the Settlement Agreement. The entire Second Partial Settlement Agreement including Appendix F may be found on the Class web site at: http:www.rncsettlement.com.

I. How Are Shares Calculated?

The allocations will be made on the basis of each Class Member's actual credited BIA expenditures (not including construction expenses exceeding $100,000) as shown in the Claim Form compared with those of the entire Class. To be eligible for a full allocation covering all three settlement years, each claimant must certify under penalty of perjury that it meets the criteria for eligibility for all three years. If the claimant meets the criteria for only two years, it will receive a two-thirds allocation. If it meets the criteria for only one year, it will receive a one-third allocation. See Appendix F.

II. Who Is Eligible for a Share in This Settlement?

A. Only Class Members which had a Public Law 93-638 contract or compact with the Bureau of Indian Affairs during any of the settlement years, FY 1992, FY 1993, or FY 1994, are eligible to share in the proceeds of this settlement. Class Members who also had a school grant under the Tribally Controlled School Grants Act, 25 U.S.C. 2001 et seq. may include their school grant amount in the share calculation only if they had an indirect cost rate and the grant was included in the direct cost base for that rate. School grantees who did not have a Public Law 93-638 contract are not Class Members.

B. To qualify for a share in PSA-2, each Class Member must submit a Claim Form, duly executed and notarized, to the Settlement Administrator within 60 days of publication of this Notice in the Federal Register.

III. Provisional List of Class Members and Procedure for Correcting Your Entry

Attached to this Notice is a list of tribes and tribal entities compiled by Class Counsel who may be members of the Class eligible for an allocation from the Net Common Fund. This list is also published on the Class web site and will be published in the Federal Register. The web site contains important pleadings, other documents, and notices previously sent to the Class as well as the complete Second Partial Settlement Agreement including Appendix F.

A. If You Are on the List But Wish To Disclaim a Share of This Settlement

There are no opt outs and the period for opting out of the class action has passed. If your tribe or tribal organization does not wish to receive a share of this settlement, this may be achieved by so indicating on the attached claim form or by sending a letter to the Settlement Administrator disclaiming any share of this settlement. Tribes which so indicate will remain class members but will be removed from the list used in future mailings regarding this settlement.

B. If You Are Not on the List But Are a Class Member Who Wishes To Be Included or Who Wishes To Challenge the Provisional List Data for Your Entity

Any tribal entity which does not appear on the provisional list or wishes to challenge the accuracy of its data on the provisional list and which believes it is a Class Member eligible to receive a share of the Net Common Fund must file a statement certifying under oath that it had a Public Law 93-638 contract or self-governance compact with the BIA during any one or more of the settlement years FY 1992 through FY 1994. The response must state that the information provided is true and correct to the best of the signatory's knowledge, information, and belief. The statement must also be accompanied by documentary proof (e.g., “Schedule of Federal Financial Assistance” from your annual single agency audit or alternative documentation such as contract award documents and IDC agreements, etc.) showing existence of the elements and amounts for eligibility under Part I of this Notice for each year the entity claims to have had such contracts or compacts. The completed claim form and supporting documentation must be received by REDW, LLC no later than 60 days after the date of publication of this Notice in the Federal Register and must also be served on Plaintiffs' and Defendants' Counsel within the same period. Addresses for Class Counsel are set out at the end of this notice. Defendant's counsel's address is: Karen K. Richardson, Esq., United States Department of Justice, Civil Division, Post Office Box 883, Benjamin Franklin Station, Washington, DC 20044.

Challenges to inclusion or exclusions from the provisional list by other Class Members are not permitted.

IV. You Must Timely File a Claim Form To Share in This Settlement

Each Class Member must submit to the Settlement Administrator the attached claim form duly executed and notarized by the responsible official plus such financial information about its federal funding expenditures for each of the settlement years as may be required on the form.

The preferred information to be attached to the claim form is your “Schedule of Federal Financial Assistance (SFFA)” in your annual single agency audit for the relevant year or years.

If the SFFA is not on file and cannot be located, alternative documentation may be substituted if acceptable to the Settlement Administrator.

Audit data received from Class Members will be kept confidential pursuant to Paragraph 9(C) of Appendix D of the First Partial Settlement Agreement (PSA-1), except for publication of BIA funding expenditures data in connection with this distribution as authorized by Appendix F, PSA-2. Entities for whom the required documents are not received will not receive an allocation.

If the Court, on petition, later finds that the methodology for distribution of PSA-2 is unworkable, too costly, or not beneficial to the interests of the Class, some other method may be substituted after notice and an opportunity for hearing objections.

After expiration of the response period set forth in this Notice, the Settlement Administrator will determine the Final List of Class Members who have been determined to be eligible for an allocation under PSA-2. The Notice accompanying this “Final Share Percentage Schedule” (FSPS) will provide a final means for challenging the share percentage stated in the FSPS.

Unless Class Members timely submit a claim form and provide necessary documentation to the Settlement Administrator, they will not receive a share of the Net Common Fund.

The claim form must be mailed to: REDW, LLC, Ramah Navajo Chapter Class Action Settlement Administrator, 6401 Jefferson NE, Post Office Box 93659, Albuquerque, New Mexico 87199-3659; Telephone No. 1-888-726-9418; Web site: http:www.rncsettlement.com; Email address: rncsettlement@redw.com

Questions regarding this notice should be directed to the Settlement Administrator at the above address or to Class Counsel below.

Michael P. Gross, Class Counsel, M. P. Gross & Associates, P.C., 460 St. Michael's Drive, #300, Santa Fe, NM 87505-7602; Telephone No. (505) 983-6686; Fax No. (505) 989-1096; Email address: mpgross@cnsp.com.

C. Bryant Rogers, Co-Class Counsel, Roth, VanAmberg, Rogers, Ortiz, Fairbanks & Yepa, LLP, Post Office Box 1447, Santa Fe, NM 87504-1447; Telephone No. (505) 988-8979; Fax No. (505) 983-7508; Email address: cbrogers@nmlawgroup.com.

Lloyd B. Miller, Co-Class Counsel for the DCSC Claim, Sonosky Chambers Sachse Miller and Munson, 900 W. Fifth Street, Suite 700, Anchorage, Alaska 99501; Telephone No. (907) 258-6377; Fax No. (907) 2723-8332; Email address: lloyd@sonosky.net.

Attachment A.—Ramah Navajo Chapter Settlement Administration
[Information on file for the base year amount for 1993; Appendix F paragraph 10(b)—Provisional List (part 1 of 2); Alphabetical order—by organization]
Tribe/Organization | Control No. | 1993 BIA expenditures
1854 AUTHORITY | 1040 | $385,083
ABSENTEE-SHAWNEE TRIBE OF OKLAHOMA | 1 | 1,144,671
AKIACHAK NATIVE COMMUNITY (IRA) | 11 | 102,985
ALABAMA-COUSHATTA TRIBE OF TEXAS | 14 | 1,005,948
ALAMO NAVAJO SCHOOL BOARD INC | 17 | 2,860,123
ALEUTIAN/PRIBOLOF ISLAND ASSOCIATION | 22 | 876,862
ALL INDIAN PUEBLO COUNCIL | 24 | 572,687
ARTIC SLOPE COMMUNITY | 38 | 826,772
ASSOCIATION OF VILLAGE COUNCIL PRESIDENTS INC | 43 | 3,372,828
BAD RIVER BAND OF LAKE SUPERIOR CHIPPEWA INDIANS | 51 | 936,549
BAY MILLS COMMUNITY COLLEGE | 908 | 665,657
BAY MILLS INDIAN COMMUNITY | 56 | 1,734,035
BIG LAGOON RANCHERIA | 67 | 81,777
BIG PINE PAUITE SHOSHONE BAND | 68 | 225,648
BISHOP PAIUTE TRIBE | 74 | 191,163
BLACKFEET TRIBE | 77 | 3,504,136
BLUE LAKE RANCHERIA OF CALIFORNIA | 78 | 131,087
BOARD OF DIRECTORS TRENTON INDIAN SERVICE AREA | 79 | 320,577
BOIS FORTE BAND OF MINNESOTA CHIPPEWA TRIBE | 495 | 549,864
BURNS PAIUTE TRIBE | 89 | 481,324
CADDO TRIBE OF OKLAHOMA | 93 | 23,325
CAHUILLA BAND OF INDIANS | 95 | 70,969
CAMPO BAND OF MISSION INDIANS | 97 | 37,358
CENTRAL COUNCIL OF THE TLINGIT AND HAIDA INDIAN TRIBES | 108 | 5,843,029
CHER-AE HEIGHTS INDIAN COMMUNITY OF THE TRINIDAD RANCHERIA | 117 | 68,449
CHEROKEE NATION | 120 | 12,135,102
CHEYENNE RIVER COMMUNITY COLLEGE | 920 | 831,795
CHEYENNE RIVER SIOUX TRIBE | 122 | 5,419,641
CHEYENNE-ARAPAHO TRIBES OF OKLAHOMA | 123 | 2,038,243
CHICKASAW NATION | 126 | 3,667,626
CHIPPEWA CREE TRIBE | 138 | 2,460,888
CHITIMACHA TRIBE OF LOUISIANA | 141 | 2,529,525
CHOCTAW NATION OF OKLAHOMA/JONES ACADEMY | 144 | 6,268,339
CHUCACHIUT, INC. | 149 | 1,819,593
CITIZEN POTAWATOMI NATION | 156 | 992,281
COAST INDIAN COMMUNITY OF THE RESIGHINI RANCHERIA | 161 | 151,469
COEUR D'ALENE TRIBE | 164 | 3,116,653
COLORADO RIVER INDIAN TRIBES | 167 | 1,635,403
COLUMBIA RIVER INTERTRIBAL FISH COMMISSION | 1047 | 3,196,475
COMANCHE TRIBE OF OKLAHOMA | 171 | 1,441,674
CONCOW MAIDU TRIBE OF MOORETOWN RANCHERIA | 471 | 225,200
CONFEDERATED SALISH AND KOOTENAI TRIBES | 173 | 9,803,091
CONFEDERATED TRIBES AND BANDS OF THE YAKAMA NATION | 890 | 9,086,044
CONFEDERATED TRIBES OF COOS, LOWER UMPQUA, & SIUSL | 174 | 637,323
CONFEDERATED TRIBES OF GRAND RONDE COMMUNITY OF OR | 177 | 1,434,869
CONFEDERATED TRIBES OF SILETZ INDIANS OF OREGON | 175 | 2,072,413
CONFEDERATED TRIBES OF THE CHEHALIS RESERVATION | 114 | 941,154
CONFEDERATED TRIBES OF THE COLVILLE RESERVATION | 176 | 9,809,752
CONFEDERATED TRIBES OF UMATILLA INDIAN RESERVATION | 179 | 3,079,881
COOK INLET TRIBAL COUNCIL, INC. | 181 | 1,551,039
COPPER RIVER NATIVE ASSOCIATION | 183 | 1,624,840
COQUILLE INDIAN TRIBE | 185 | 1,227,958
COUSHATTA TRIBE OF LOUISIANA | 191 | 540,290
COW CREEK BAND OF UMPQUA TRIBE OF INDIANS | 193 | 503,712
CROW CREEK SIOUX TRIBE | 198 | 1,389,634
CROW TRIBE OF INDIANS | 200 | 1,635,528
DELAWARE TRIBE OF WESTERN OKLAHOMA | 208 | 7,550
DUCKWATER SHOSHONE TRIBE | 219 | 941,575
DULL KNIFE MEMORIAL COLLEGE | 940 | 915,950
EASTERN BAND OF CHEROKEE | 118 | 8,898,982
EASTERN SHAWNEE TRIBE OF OKLAHOMA | 222 | 160,297
EASTERN SHOSHONE TRIBE | 223 | 329,697
EIGHT NORTHERN INDIAN PUEBLOS COUNCIL | 226 | 485,379
ELK VALLEY RANCHERIA | 232 | 106,652
ELY SHOSHONE TRIBE | 234 | 586,019
FAIRBANKS NATIVE ASSOCIATION | 240 | 620,669
FALLON PAIUTE SHOSHONE TRIBE | 241 | 1,187,735
FLANDREAU SANTEE SIOUX TRIBE | 244 | 300,973
FOND DU LAC BAND OF LAKE SUPERIOR CHIPPEWA | 246 | 3,603,978
FOREST COUNTY POTAWAOM COMMUNITY (A.K.A. FOREST | 248 | 366,782
FORT BELKNAP TRIBAL COUNCIL | 250 | 2,772,116
FORT BIDWELL INDIAN COMMUNITY OF PAIUTE INDIANS | 251 | 99,167
FORT MCDOWELL YAVAPAI NATION | 256 | 326,827
FORT MOJAVE INDIAN TRIBE | 257 | 1,303,279
FORT PECK TRIBES | 42 | 3,446,174
GILA RIVER INDIAN COMMUNITY | 266 | 7,696,975
GRAND PORTAGE BAND OF OJIBWE | 269 | 416,474
GRAND TRAVERSE BAND OF OTTAWA & CHIPPEWA INDIANS | 270 | 2,043,822
GREAT LAKES FISH & WILDLIFE COMMISSION | 1039 | 4,260,441
HANNAHVILLE INDIAN SCHOOL | 280 | 4,313,522
HAVASUPAI TRIBE | 284 | 1,733,262
HO-CHUNK NATION | 286 | 449,947
HOH TRIBE | 288 | 586,259
HOOPA VALLEY TRIBE | 291 | 5,674,086
HOPI TRIBE | 295 | 4,538,542
HOULTON BAND OF MALISEET INDIANS | 299 | 683,317
HUALAPAI TRIBE | 300 | 1,591,245
INTER-TRIBAL COUNCIL OF MICHIGAN | 1055 | 188,131
IOWA TRIBE OF OKLAHOMA | 320 | 487,421
JAMESTOWN S'KLALLAM TRIBE | 327 | 1,939,626
JICARILLA APACHE TRIBE | 332 | 1,220,639
JOINT BUSINESS COUNCIL SHOSHONE AND ARAPAHO TRIBE | 716 | 3,282,171
KALISPEL TRIBE OF INDIANS | 340 | 701,218
KARUK TRIBE OF CALIFORNIA | 345 | 491,815
KAW NATION OF OKLAHOMA | 349 | 422,937
KAWERAK INCORPORATED | 350 | 3,542,620
KENAI VILLAGE (KENAITZE VILLAGE) | 352 | 354,419
KETCHIKAN INDIAN CORPORATION (IRA) | 353 | 2,043,122
KEWEENAW BAY INDIAN COMMUNITY | 354 | 1,136,752
KIANA VILLAGE | 356 | 34,772
KICKAPOO TRIBE IN KANSAS | 359 | 677,978
KICKAPOO TRIBE OF OKLAHOMA | 360 | 326,643
KIOWA TRIBE OF OKLAHOMA | 365 | 1,200,128
KLAMATH GENERAL COUNCIL | 369 | 2,694,361
KODIAK AREA NAVTIVE ASSOCIATION | 373 | 617,159
KOOTENAI TRIBAL COUNCIL | 378 | 336,745
KUSKOKWIM NATIVE ASSOCIATION | 384 | 915,693
KWETHLUK VILLAGE (IRA) | 385 | 217,724
KWIGILLINGOK VILLAGE (IRA) | 386 | 59,677
LAC COURTE OREILLES TRIBAL GOVERNING BOARD | 391 | 4,178,614
LAC DU FLAMBEAU BAND OF LAKE SUPERIOR CHIPPEWA IND | 392 | 1,751,307
LAC VIEUX DESERT BAND OF LAKE SUPERIOR CHIPPEWA IN | 393 | 666,756
LAS VEGAS PAUITE TRIBE | 398 | 208,897
LEECH LAKE RESERVATION BUSINESS COMMITTEE/LEECH LA | 401 | 7,238,032
LOWER BRULE SIOUX TRIBE | 419 | 2,372,623
LOWER ELWHA COMMUNITY COUNCIL | 420 | 1,805,497
LUMMI TRIBE OF THE LUMMI RESERVATION WASHINGTON | 426 | 7,166,776
MAKAH TRIBAL COUNCIL | 431 | 3,547,205
MANILAQ ASSOCIATION | 435 | 1,296,256
MANZANITA BAND OF MISSION INDIANS | 440 | 170,475
MASHANTUCKET PEQUOT TRIBE | 445 | 570,218
MENOMINEE INDIAN TRIBE OF WISCONSIN | 450 | 7,318,025
MESA GRANDE BAND OF MISSION INDIANS | 453 | 14,946
MESCALERO APACHE TRIBE | 455 | 2,007,517
METLAKATLA INDIAN COMMUNITY | 456 | 4,118,183
MIAMI TRIBE OF OKLAHOMA | 459 | 87,088
MUCCOSUKEE TRIBE OF INDIANS OF FLORIDA | 461 | 5,316,211
MILLE LACS BAND OF CHIPPEWA INDIANS (INCLUDES MILL | 463 | 3,196,856
MINNESOTA CHIPPEWA TRIBAL EXECUTIVE COMMITTEE | 464 | 2,847,198
MISSISSIPPI BAND OF CHOCTAW INDIANS | 466 | 19,718,975
MOAPA BAND OF PAIUTES | 467 | 256,303
MUCKLESHOOT TRIBAL COUNCIL | 473 | 2,278,536
MUSCOGEE (CREEK) NATION OF OKLAHOMA | 475 | 5,975,572
NARRAGANSETT INDIAN TRIBE | 484 | 1,585,254
NAVAJO—TOHATCHI SPECIAL EDUCATION & TRAINING CEN | 1044 | 1,144,290
NAVAJO AREA SCHOOL BOARD ASSOC., INC | 1043 | 997,352
NAVAJO NATION | 488 | 89,683,454
NAVAJO PREPARATORY SCHOOL, INC. | 489 | 2,091,269
NEZ PERCE TRIBE | 502 | 2,925,810
NINILCHIK VILLAGE | 506 | 88,190
NISQUALLY INDIAN COMMUNITY COUNCIL | 507 | 1,624,556
NOME ESKIMO COMMUNITY | 511 | 723,663
NOOKSACK INDIAN TRIBE | 515 | 626,090
NORTHERN ARAPAHO TRIBE | 37 | 140,790
NORTHERN CHEYENNE TRIBAL SCHOOLS | 518 | 1,518,429
NORTHERN CHEYENNE TRIBE | 519 | 4,243,762
NORTHWEST INDIAN COLLEGE | 983 | 1,802,390
NORTHESET INDIAN FISHERIES COMMISSION | 521 | 4,672,570
NORTHWEST INTERTRIBAL COURT SYSTEM | 1065 | 819,622
NORTHWESTERN BAND OF THE SHOSHONI NATION | 522 | 294,918
OGLALA LAKOTA COLLEGE | 917 | 2,634,108
OGLALA SIOX DEPT. OF PUBLIC SAFETY | 1037 | 3,213,585
OGLALA SIOX PARKS & RECREATION AUTHORITY | 1042 | 330,158
OGLALA SIOUX TRIBE | 528 | 7,718,221
OMAHA TRIBE OF NEBRASKA | 534 | 2,578,480
ONEIDA TRIBE OF INDIANS OF WISCONSIN | 536 | 3,375,812
ORGANIZED VILLAGE OF KAKE | 338 | 1,034,041
ORUTSARARMUIT NATIVE COUNCIL | 66 | 960,258
OSAGE TRIBE OF INDIANS OF OKLAHOMA | 540 | 556,425
OTOE-MISSOURIA TRIBE OF OKLAHOMA | 542 | 589,598
PAIUTE INDIAN TRIBE OF UTAH | 548 | 720,711
PASCUA YAQUI TRIBE OF ARIZONA | 552 | 2,098,993
PASSAMAQUODDY TRIBE-PLEASANT POINT | 555 | 1,441,729
PASSAMAQUODDY TRIBE-INDIAN TOWNSHIP | 334 | 1,656,079
PAUMA BAND OF MISSION INDIANS | 557 | 134,990
PAWNEE NATION OF OKLAHOMA | 558 | 51,737
PENOBSCOT INDIAN NATION | 561 | 2,630,292
PLEASEANT POINT SCHOOL/MAINE INDIAN EDUCATION | 430 | 3,441,565
POARCH BAND OF CREEK INDIANS | 584 | 1,809,323
POINT NO POINT TREATY COUNCIL | 587 | 2,250,521
PONCA TRIBE OF OKLAHOMA | 591 | 573,197
PORT GAMBLES S'KLALLAM TRIBE | 593 | 1,782,476
PRAIRIE BAND OF POTAWATOMI INDIANS | 599 | 576,990
PUEBLO DE SAN FELIPE | 663 | 372,618
PUEBLO OF ACOMA | 2 | 1,673,414
PUEBLO OF ISLETA | 322 | 1,493,582
PUEBLO OF JEMEZ | 330 | 474,655
PUEBLO OF LAGUNA | 395 | 5,330,977
PUEBLO OF NAMBE | 479 | 324,349
PUEBLO OF PICURIS | 566 | 336,762
PUEBLO OF SANTA ANA | 674 | 306,039
PUEBLO OF TAOS | 778 | 1,575,756
PUELBO OF SANTA CLARA | 603 | 1,085,182
PUYALLUP TRIBE OF INDIANS | 604 | 4,346,464
PYRAMID LAKE PAIUTE TRIBAL COUNCIL | 606 | 2,719,352
QUAPAW TRIBE OF OKLAHOMA | 609 | 198,722
QUECHAN INDIAN TRIBE | 611 | 1,837,056
QUILEUTE TRIBAL | 612 | 2,561,532
QUINAULT INDIAN NATION | 614 | 10,697,379
RAMAH NAVAJO SCHOOL BOARD INC | 615 | 8,285,404
RED CLIFF BAND OF LAKE SUPERIOR CHIPPEWA | 621 | 1,069,878
RED LAKE BAND OF CHIPPEWAS INDIANS | 623 | 4,393,457
REDDING RANCHERIA | 629 | 199,816
RENO-SPARKS INDIAN COLONY | 631 | 657,671
ROCK POINT COMMUNITY SCHOOL | 638 | 4,039,611
ROSEBUD SIOUX TRIBE | 641 | 5,689,843
SAC & FOX NATION OF OKLAHOMA | 651 | 1,435,159
SAC AND FOX TRIBAL OF THE MISSISSIPPI IN IOWA | 653 | 1,019,606
SAGINAW CHIPPEWA TRIBAL COUNCIL | 655 | 1,112,858
SALISH KOOTENAI COLLEGE | 998 | 2,520,842
SALT RIVER PIMA-MARICOPA INDIAN COMMUNITY | 660 | 2,925,067
SAN CARLOS APACHE TRIBE | 662 | 8,924,947
SAN JUAN PUEBLO TRIBAL COUNCIL | 666 | 748,666
SAN JUAN SOUTHERN PAIUTE COUNCIL | 667 | 380,267
SANTEE SIOUX TRIBE OF NEBRASKA | 683 | 570,245
SAUK-SUIATTLE TRIBAL COUNCIL | 685 | 187,567
SAULT STE, MARIE TRIBE OF CHIPPEWA INDIANS | 686 | 3,186,096
SEMINOLE NATION OF OKLAHOMA | 695 | 1,193,223
SEMINOLE TRIBE OF FLORIDA | 696 | 4,830,423
SENECA NATION OF INDIANS | 697 | 944,922
SENECA-CAYUGA TRIBE OF OKLAHOMA | 698 | 327,036
SHERWOOD VALLEY BAND OF POMO INDIANS | 706 | 73,250
SHOALWATER BAY INDIAN TRIBE | 712 | 359,218
SHOSHONE-BANNOCK TRIBE | 718 | 4,403,788
SHOSHONE-PALUTE TRIBES OF THE DUCK VALLEY INDIAN R | 217 | 1,963,287
SINTE GLESKA UNIVERSITY | 720 | 2,539,828
SISSETON-WAHPETON SCHOOL BOARD—TIOSPA ZINA TRIB | 796 | 2,506,011
SISSETON-WAHPETON SIOUX TRIBE | 721 | 2,715,330
SISSETON-WAHPETON SIOUX TRIBE | 721 | 2,715,330
SITKA TRIBE OF ALASKA | 722 | 1,878,699
SKAGIT SYSTEM COOPERATIVE | 1071 | 1,118,489
SKOKOMISH INDIAN TRIBE | 724 | 605,857
SKY PEOPLE EDUCATION COMMITTEE | 1072 | 188,003
SOUTHERN UTE INDIAN TRIBE | 740 | 3,132,581
SPIRIT LAKE TRIBE (FMA DEVILS LAKE SIOUX TRIBE) | 741 | 1,334,823
SPOKANE TRIBE OF INDIANS | 742 | 2,285,294
SQUAXIN ISLAND TRIBE | 743 | 1,281,992
ST. STEPHENS INDIAN SCHOOL | 746 | 2,403,284
ST. CROIX TRIBAL COUNCIL | 747 | 884,179
ST. REGIS MOHAWK TRIBE | 749 | 1,190,245
STANDING ROCK SIOUX TRIBE | 752 | 6,148,190
STILLAGUAMISH TRIBE OF INDIANS | 759 | 708,545
STOCKBRIDGE-MUNSEE COMMUNITY | 760 | 476,759
SUMMIT LAKE PAIUTE TRIBE | 764 | 271,909
SUQUAMISH TRIBE | 765 | 2,188,253
SUSANVILLE INDIAN RANCHERIA | 766 | 96,818
SWINOMISH INDIAN TRIBAL COMMUNITY | 768 | 2,159,155
TANANA CHIEFS CONFERENCE | 776 | 5,016,231
TE-MOAK TRIBE OF WESTERN SHOSHONE | 786 | 794,024
THE CONFEDERATED TRIBES OF THE WARM SPRINGS RESERVATION | 178 | 6,178,972
THE HOPI CREDIT ASSOCIATION | 789 | 1,168,878
THE TORRES MARTINEZ DESERT CAHUILLA INDIANS | 809 | 366,142
THREE AFFILIATED TRIBES OF NORTH DAKOTA | 794 | 4,406,092
TOHONO O'ODHAM NATION | 800 | 9,825,839
TOIYABE INDIAN HEALTH PROJECT, INC. | 801 | 265,069
TONKAWA TRIBE OF OKLAHOMA | 806 | 179,828
TULALIP TRIBES OF WASHINGTON | 817 | 2,231,866
TULE RIVER INDIAN TRIBE | 818 | 519,067
TUNICA-BILOXI INDIAN TRIBE OF LOUISIANA | 820 | 583,456
TURTLE MOUNTAIN BAND OF CHIPPEWA | 824 | 9,977,925
TURTLE MOUNTAIN COMMUNITY COLLEGE | 825 | 1,689,949
UNITED SIOUX TRIBES | 846 | 116,012
UNITED TRIBES TECHNICAL COLLEGE | 847 | 3,683,524
UPPER SIOUX COMMUNITY | 852 | 439,712
UPER SKAGIT TRIBAL COUNCIL | 853 | 506,923
UTE INDIAN TRIBE-UINTAH & OURAY RESERVATION | 854 | 1,016,724
UTE MOUNTAIN UTE TRIBE | 855 | 6,672,883
VALDEZ NATIVE ASSOCIATION | 856 | 58,510
WALKER RIVER PAIUTE TRIBE | 864 | 1,410,644
WAMPANOAG TRIBE OF GAY HEAD (AQUINNAH) | 865 | 1,014,577
WASHOE TRIBE OF NEVADA AND CALIFORNIA | 870 | 849,039
WHITE EARTH BAND OF CHIPPEWA INDIANS | 875 | 3,999,788
WHITE MOUNTAIN APACHE | 876 | 6,755,079
WICHITA AND AFFILIATED TRIBES | 881 | 154,425
WINGATE BOARD OF EDUCATION, INC. | 1033 | 675,420
WINNEBAGO TRIBE OF NEBRASKA | 884 | 951,502
WYANDOTTE TRIBE OF OKLAHOMA | 9889 | 170,656
YAKUTAT TLINGIT TRIBE/YAKUTAT NATIVE ASSOCIATION | 892 | 467,486
YANKTON SIOUX TRIBE | 893 | 769,742
YAVAPAI-PRESCOTT BOARD OF DIRECTORS | 895 | 294,266
YERINGTON PAIUTE TRIBE | 896 | 444,898
YOMBA SHOSHONE TRIBE | 897 | 159,649
YSLETA DEL SUR PUEBLO | 898 | 1,210,587
ZIA PUEBLO, AKA PUEBLO OF ZIA | 901 | 190,764
ZUNI PUEBLO | 902 | 4,134,997
Total BIA expenditures on file |  | 654,470,924
Note: If 1993 BIA expenditure information existed in settlement administrator's files it is listed above. If no 1993 expenditure information exists in the settlement administor's files then your entity should be listed on part two to the provisional list. A school grantee's presence on this listing does not mean that you qualify as a member. Please see claim form.

Attachment A.—Ramah Navajo Chapter Settlement Administration
[Settlement Administrator does not have any information on file for the base year amount for 1993; Appendix F paragraph 10(b)—Provisional list (part 2 of 2); Alphabetical order—by organization]
Tribe/Organization | Control No.
AFOGNAK NATIVE VILLAGE | 3
AGDAAGUX TRIBE OF KING COVE | 4
AGUA CALIENTE BAND OF CAHUILLA INDIANS | 5
AHFACHKEE DAY SCHOOL | 6
AHMIUM EDUCATION INC | 7
AK CHIN INDIAN COMMUNITY | 8
AK CHIN INDIAN COMMUNITY COUNCIL | 9
AKHIOK VILLAGE | 10
AKIAK NATIVE COMMUNITY (IRA) | 12
AKUTAN VILLAGE | 13
ALABAMA-QUASSARTE TRIBAL TOWN | 15
ALAKANUK VILLAGE | 16
ALAMO-NAVAJO INDIAN RESERVATION | 18
ALASKA NATIVE FOUNDATION | 1074
ALATNA VILLAGE | 19
ALEKNAGIK VILLAGE | 20
ALEUT COMMUNITY OF ST PAUL ISLAND | 21
ALGAACIQ VILLAGE (AKA ST MARYS) | 23
ALLAKAKET VILLAGE | 25
ALSO' BIYA' AZH COMMUNITY SCHOOL (SHIPROCK ELEMENT | 903
ALTURAS RANCHERIA | 26
AMBLER VILLAGE | 27
AMERICAN HORSE SCHOOL | 904
AMERICAN INDIAN CENTER OF CENTRAL CALIFORNIA | 28
AMERICAN INDIAN CHILD RESOURCE CENTER | 29
ANAKTUVUK PASS VILLAGE | 30
ANDREAFSKI VILLAGE | 31
ANETH CHAPTER | 32
ANETH COMMUNITY SCHOOL | 905
ANGOON VILLAGE (IRA) | 33
ANIAK VILLAGE | 34
ANNETTE ISLAND-METLAKATLA INDIAN COMMUNITY | 1045
ANVIK VILLAGE | 35
APACHE TRIBE OF OKLAHOMA | 36
ARCTIC VILLAGE | 39
AROOSTOOK BAND OF MICMAC INDIANS | 40
ASA'CARSARMIUT TRIBAL COUNCIL | 41
ATKA VILLAGE (IRA) | 44
ATMUATHLUAK VILLAGE | 45
ATQASUK VILLAGE | 46
ATSA'BI'YAAZH COMMUNITY SCHOOL | 47
AUBURN RANCHERIA | 48
AUGUSTINE BAND OF MISSION INDIANS | 49
AZTEC DOMITORY | 906
BACA COMMUNITY SCHOOL | 907
BACA/HAYSTACK CHAPTER | 50
BAHWETING ANISHINABE SCHOOL | 52
BARONA—CAPITAN GRANDE DIEGUENO TRIBE | 53
BARROW VILLAGE | 54
BATTLE MOUNTAIN BAND COUNCIL | 55
BEADSPRINGS CHAPTER | 57
BEAR RIVER BANK OF ROHNERVILLE RANCHERIA | 58
BEATRICE RAFFERTY SCHOOL | 59
BEAVER VILLAGE | 60
BECENTI CHAPTER | 61
BECLABITO CHAPTER | 62
BECLABITO DAY SCHOOL | 909
BELKOFSKI VILLAGE | 63
BENTON PAIUTE RESERVATION | 64
BENTON PAIUTE TRIBE | 836
BERRY CREEK RANCHERIA OF MAIDU INDIANS | 65
BIG SANDY RANCHERIA OF MONO INDIANS | 69
BIG VALLEY RANCHERIA | 70
BILL MOORE'S SLOUGH ELDER'S COUNCIL | 71
BIRCH CREEK VILLAGE | 72
BIRDSPRINGS CHAPTER | 73
BLACK MESA CHAPTER | 75
BLACK MESA COMMUNITY SCHOOL BOARD, INC | 76
BLACKFEET COMMUNITY COLLEGE | 910
BLACKFEET DORMITORY | 911
BLACKWATER COMMUNITY SCHOOL | 912
BODAWAY CHAPTER | 80
BOIS FORTE RESERVATION BUSINESS COMMITTEE | 81
BOQUE CHITTO ELEMENTARY SCHOOL | 82
BREAD SPRINGS DAY SCHOOL | 913
BREVIG MISSION VILLAGE | 83
BRIDGEPORT PAIUTE INDIAN COLONY | 84
BRISTOL BAY NATIVE ASSOCIATION | 1046
BUCKLAND VILLAGE (IRA) | 85
BUENA VISTA RANCHERIA OF MEWUK INDIANS | 86
BUG-O-NAY-GE-SHIG SCHOOL | 87
BURNHAM CHAPTER | 88
BUTTE COUNTY OFFICE OF EDUCATION | 90
CABAZON BAND OF MISSION INDIANS | 91
CACHIL DEHE BAND OF WINTUN INDIANS | 92
CAHTO INDIAN TRIBE | 94
CALIFORNIA INDIAN MANPOWER CONSORTIUM, INC | 180
CAMERON CHAPTER | 96
CANKDESKA CIKANA COMMUNITY COLLEGE | 914
CANONCITO CHAPTER | 98
CANTWELL VILLAGE | 99
CAPITAN GRANDE BAND OF MISSION INDIANS | 100
CARSON COLONY COMMUNITY COUNCIL | 101
CARTER SEMINARY | 915
CASE BLANCA DAY SCHOOL | 916
CASAMERO LAKE CHAPTER | 102
CATAWBA INDIAN NATION | 103
CATAWBA INDIAN TRIBE | 104
CAYUGA NATION | 105
CEDARVILLE RANCHERIA | 106
CEDARVILLE RANCHERIA OF NORTHERN PAIUTE INDIANS | 107
CENTRAL TRIBES OF THE SHAWNEE AREA INC | 109
CENTRAL UNION ELEMENTARY SCHOOL DISTRICT | 110
CHALKYITSIK VILLAGE | 111
CHAWANAKEE JOINT UNITED SCHOOL DISTRICT | 112
CHEFORNAK VILLAGE | 113
CHEMAWA INDIAN SCHOOL | 918
CHEMEHUEVI TRIBAL COUNCIL | 115
CHENEGA IRA COUNCIL | 116
CHEROKEE CENTRAL ELEMENTARY SCHOOL | 119
CHEROKEE CENTRAL HIGH SCHOOL | 919
CHEVAK VILLAGE | 121
CHEYENNE-EAGLE BUTTE SCHOOL | 921
CHICHHILTAH CHAPTER | 124
CHI-CH'IL'TAH/JONES RANCH COMMUNITY SCHOOL | 922
CHICKALOON NATIVE VILLAGE | 125
CHICKEN RANCH BAND OF ME-WUK INDIANS | 127
CHICO RANCHERIA | 128
CHIEF LESCHI SCHOOL SYSTEM (PUYALLUP) | 129
CHIGNIK LAGOON VILLAGE | 130
CHIGNIK LAKE VILLAGE | 131
CHIGNIK VILLAGE | 132
CHILCHINBETO COMMUNITY SCHOOL, INC. (FKA CHILCHINB | 923
CHILKAT INDIAN VILLAGE (IRA) | 133
CHILKOOT INDIAN ASSN (IRA) | 134
CHINIK ESKIMO COMMUNITY | 135
CHINLCHINBETO CHAPTER | 136
CHINLE BOARDING SCHOOL | 924
CHINLE CHAPTER | 137
CHISTOCHINA VILLAGE | 139
CHITIMACHA DAY SCHOOL | 140
CHITINA VILLAGE | 142
CHOCTAW CENTRAL HIGH SCHOOL | 925
CHOCTAW CENTRAL MIDDLE SCHOOL | 143
CHOTAW CENTRAL HIGH SCHOOL | 145
CHOTAW FIELD OFFICE | 146
CHUATHBALUK VILLAGE | 147
CHUGACH REGIONAL RESC COMMISSION | 148
CHULOONAWICK NATIVE VILLAGE | 150
CHURCH ROCK CHAPTER | 151
CHUSKA COMMUNITY SCHOOL | 926
CIBECUE COMMUNITY EDUCATION BOARD, INC | 152
CIKANA COMMUNITY COLLEGE (formerly Little Hoop) | 1072
CIRCLE NATIVE COMMUNITY (IRA) | 153
CIRCLE OF LIFE SURVIVAL SCHOOL | 154
CIRCLE OF NATIONS SCHOOL | 155
CLARKS POINT VILLAGE | 157
CLOVERDALE RANCHERIA OF POMO INDIANS | 158
CLOVIS UNIFIELD SCHOOL DISTIRCT | 159
COALMINE MESA CHAPTER | 160
COCHITI PUEBLO | 162
COCOPAH TRIBAL COUNCIL | 163
COEUR D'ALENE TRIBAL SCHOOL | 165
COLD SPRINGS RANCHERIA OF MONO INDIANS | 166
COLUSA COUNTY OFFICE OF EDUCATION | 168
COLUSA RANCHERIA | 169
COLVILLE BUSINESS COUNCIL | 170
CONEHATTA ELEMENTARY SCHOOL | 172
CONFEDERATED TRIBES OF THE GOSHUTE RESERVATION | 268
COPPER CENTER VILLAGE | 182
COPPERMINE | 184
CORNFIELDS CHAPTER | 186
CORTINA BAND OF WINTUN INDIANS | 187
COTTONWOOD DAY SCHOOL | 928
COUNCIL VILLAGE | 188
COUNSELOR CHAPTER | 189
COUNTY INDIAN HEALTH INC | 190
COVE CHAPTER | 192
COVE DAY SCHOOL | 929
COVELO INDIAN COMMUNITY COLLEGE/ROUND VALLEY RESER | 1049
COVELO INDIAN COMMUNITY COUNCIL | 1050
COYOTA VALLEY RESERVATION | 630
COYTE CANYON | 194
COYOTE VALLEY TRIBAL COUNCIL | 195
CRAIG COMMUNITY ASSN (IRA) | 196
CRAZY HORSE SCHOOL | 930
CROOKED CREEK VILLAGE | 197
CROW CREEK RESERVATION HIGH SCHOOL | 931
CROW CREEK SIOUX TRIBAL ELEMENTARY SCHOOL | 932
CROW CREEK SIIOUX TRIBAL HIGH SCHOOL & CROW CREEK S | 199
CROWNPOINT CHAPTER | 201
CRYSTAL BOARDING SCHOOL | 933
CRYSTAL CHAPTER | 202
CUDELL CHAPTER | 203
CURYUNG TRIBAL COUNCIL | 204
CUYAPAIPE BAND OF MISSION INDIANS | 205
DAKOTA PLAINS INSTITUTE OF LEARNING | 1051
DEERING VILLAGE (IRA) | 206
DELAWARE TRIBE OF INDIANS OF EAST OK | 207
DELAWARE TRUST BOARD | 209
DENNEHOTSO BOARDING SCHOOL | 934
DENNEHOTSO CHAPTER | 210
DIBE YAZHI HABITIIN OLTA, INC. (BORREGO, PASS) | 935
DILCON BOARDING SCHOOL | 936
DILKON CHAPTER | 211
DILLINGHAM VILLAGE | 212
DINE COLLEGE | 937
DIOMEDE VILLAGE (IRA) | 213
DLO'AY AZHI COMMUNITY SCHOOL (THOREAU) | 938
DOT LAKE VILLAGE | 214
DOUGLAS INDIAN ASSN (IRA) | 215
D-Q UNIVERSITY | 939
DRY CREEK RANCHERIA | 216
DUCKWATER SHOSHONE ELEMENTARY SCHOOL | 218
DZILTH-NA-O-DITH-HLE COMMUNITY SCHOOL | 941
EAGLE VILLAGE COUNCIL | 220
EASTERN BAND OF CHEROKEE INDIANS | 221
EEDA CONSORTIUM OF TRIBES | 1052
EEK VILLAGE | 224
EGEGIK VILLAGE | 225
EKLUTNA VILLAGE | 227
EKUK VILLAGE | 228
EKWOK VILLAGE | 229
ELEM INDIAN COLONY OF POMO INDIANS | 230
ELIM VILLAGE (IRA) | 231
ELKO BANK COUNCIL | 233
EMMONAK VILLAGE | 235
ENEMY SWIM DAY SCHOOL | 236
ENTERPRISE RANCHERIA OF ESTOM YUMEKA MAIDU | 237
EUFAULA DORMITORY | 942
EVANSVILLE VILLAGE | 238
FALSE PASS VILLAGE | 242
FIVE SANDOVAL INDIAN PUEBLO, INC. | 1075
FLAGSTAFF BORDERTOWN DORMITORY | 243
FLANDREAU INDIAN BOARDING SCHOOL | 943
FOND DU LAC BANK OF LAKE SUPERIOR CHIPPEWA | 245
FOND DU LAC RESERVATION BUSINESS COMMITTEE | 247
FOND DU LAC TRIBAL & COMMUNITY COMMUNITY COLLEGE | 944
FOREST LAKE CHAPTER | 249
FORT BELKNAP COMMUNITY COLLEGE | 945
FORT BELKNAP INDIAN COMMUNITY GROS VENTRE & ASSINI | 276
FORT BERTHOLD COMMUNITY COLLEGE | 946
FORT DEFIANCE CHAPTER | 252
FORT HALL BUSINESS COUNCIL | 253
FORT INDEPENDENCE PAIUTE INDIAN COMMUNITY | 254
FORT MCDERMITT TRIBAL COUNCIL | 255
FORT PECK COMMUNITY COLLEGE | 947
FORT PECK TRIBAL EXECUTIVE BOARD | 258
FORT SILL APACHE TRIBE OF OKLAHOMA | 259
FOUR WINDS ELEMENTARY (TATE TOPA TRIBAL SCHOOL) | 779
GAKONA VILLAGE COUNCIL | 261
GALENA VILLAGE | 262
GAMBELL VILLAGE | 263
GANADO CHAPTER | 264
GEORGETOWN VILLAGE | 265
GILA CROSSING DAY SCHOOL | 948
GRAYLING VILLAGE (IRA) (HOLIKACHUK) | 271
GREASEWOOD SPRINGS COMMUNITY SCHOOL INC | 272
GREAT LAKES INTER-TRIBAL COUNCIL | 1053
GREENVILLE RANCHERIA OF MAIDU INDIANS | 273
GREYHILLS ACADEMY HIGH SCHOOL | 274
GRINDSTONE INDIAN RANCHERIA OR WINTUN-NOMOLAKI | 275
GUIDIVILLE BANK OF POMO INDIANS | 277
GULKANA VILLAGE COUNCIL | 278
HAMILTON VILLAGE | 279
HANNAHVILLE INDIAN COMMUNITY COUNCIL | 281
HARD ROCK CHAPTER | 282
HASKELL INDIAN NATIONS UNIVERSITY | 949
HAVASUPAI SCHOOL | 283
HEALY LAKE VILLAGE | 285
HOGBACK CHAPTER | 287
HOLBROOK DORMITORY | 950
HOLY CROSS VILLAGE | 289
HOONAH INDIAN ASSN (IRA) | 290
HOOPER BAY VILLAGE | 292
HOPI CREDIT ASSOCIATION | 1054
HOPI DAY SCHOOL | 951
HOPI DAY SCHOOL | 293
HOPI HIGH SCHOOL | 294
HOPLAND BAND OF POMO INDIANS | 296
HOTEVILLA BACAVI COMMUNITY SCHOOL | 297
HOUCK CHAPTER | 298
HUERFANO CHAPTER | 301
HUERFANO DORMITORY | 952
HUGHES VILLAGE | 302
HUNTERS POINT BOARDING SCHOOL | 953
HURON POTAWATOMI INC | 303
HUSLIA VILLAGE | 304
HYDABURG COOPERATIVE ASSN (IRA) | 305
IGIUGIG VILLAGE | 306
ILIAMNA VILLAGE | 307
INAJA-COSMIT BAND OF MISSION INDIANS | 308
INDIAN CHILD & FAMILY SERVICES | 309
INDIAN HEALTH COUNCIL INC | 310
INDIAN ISLAND SCHOOL | 311
INDIAN TOWNSHIP SCHOOL | 312
INDIAN TOWNSHIP SCHOOL | 954
INDIAN TOWNSHIP—PASSAMAQUODDY | 313
INDIAN WELLS CHAPTER | 314
INSCRIPTION HOUSE CHAPTER | 315
INTER-TRIBAL COUNCIL OF CA INC | 316
INTER-TRIBAL COUNCIL OF OKLAHOMA | 1056
INUPIAT COMMUNITY OF ARCTIC SLOPE (IRA) | 317
IONE BAND OF MIWOK INDIANS | 318
IOWA TRIBE OF KANSAS-NEBRASKA | 319
IQURMUIT VILLAGE (RUSSIAN MISSION) | 321
ISLETA ELEMENTARY SCHOOL | 955
IVANOF BAY VILLAGE | 323
IYANBITO CHAPTER | 324
JACKSON BAND OF MI-WUK INDIANS | 325
JACKSON RANCHERIA | 326
JAMUL INDIAN VILLAGE | 328
JEDDITO CHAPTER | 329
JEMEZ DAY SCHOOL | 956
JENA BAND OF CHOCTAWS | 331
JICARILLA DORMITORY | 333
JOHN F. KENNEDY DAY SCHOOL | 957
JONES ACADEMY | 958
KAGUYAK VILLAGE | 335
KAIBAB-PAIUTE TRIBAL COUNCIL | 336
KAIBETO BOARDING SCHOOL | 959
KAIBETO CHAPTER | 337
KAKTOVIK VILLAGE | 339
KALTAG VILLAGE | 342
KANATAK NATIVE VILLAGE | 343
KARLUK VILLAGE (IRA) | 344
KASHIA BAND OF POMO INDIANS | 347
KASIGLUK VILLAGE | 348
KAYENTA BOARDING SCHOOL | 960
KAYENTA CHAPTER | 351
KEAMS CANYON BOARDING SCHOOL | 961
KIALEGEE TRIBAL TOWN | 355
KIAWOCK CORPORATIVE ASSN (IRA) | 357
KICKAPOO NATION SCHOOL | 962
KICKAPOO TRADITIONAL TRIBE OF TEXAS | 358
KING COVE VILLAGE | 361
KING ISLAND NATIVE COMMUNITY (IRA) | 362
KINGS CANYON UNIFIED SCHOOL DISTRICT | 363
KINLICHEE BOARDING SCHOOL | 963
KINLICHEE CHAPTER | 364
KIPNUK VILLAGE | 366
KLAGETOH CHAPTER | 368
KLAWOCK COOPERATIVE ASSN (IRA) | 370
KNIK VILLAGE | 371
KOBUK VILLAGE | 372
KODIAK TRIBAL COUNCIL | 374
KOKHANOK VILLAGE | 375
KOLIGANEK VILLAGE | 376
KONGIGANAK VILLAGE | 377
KOTLIK TRADITIONAL COUNCIL | 379
KOYUKUK VILLAGE | 382
KUIGPAGMIUT INC | 383
KWINHAGAK VILLAGE (IRA) (AKA QUINHAGAK) | 387
LA JOLLA BAND OF INDIANS | 388
LA JOLLA BAND OF LUISENO INDIANS | 753
LA POSTA BAND OF MISSION INDIANS | 389
LAC COURTE OREILLES INDIAN RESERVATION | 390
LAC COURTE OREILLES OJIBWA COMMUNITY COLLEGE | 964
LAGUNA ELEMENTARY SCHOOL | 965
LAGUNA MIDDLE SCHOOL | 394
LAKE VALLEY CHAPTER | 396
LAKE VALLEY NAVAJO SCHOOL | 966
LARSEN BAY VILLAGE | 397
LAYTONVILLE RANCHERIA | 399
LECHEE CHAPTER | 400
LEECH LAKE TRIBAL COLLEGE | 967
LEISNOI VILLAGE (AKA WOODY ISLAND) | 402
LEUPP CHAPTER | 403
LEUPP SCHOOLS INC. | 404
LEUPP SCHOOLS, INCORPORATED | 968
LEVELOCK VILLAGE | 405
LIME VILLAGE | 406
LITTLE BIG HORN COLLEGE | 969
LITTLE EAGLE DAY SCHOOL | 970
LITTLE PRIEST TRIBAL COLLEGE | 971
LITTLE RIVER BAND OF OTTAWA INDIANS INC | 407
LITTLE SINGER COMMUNITY SCHOOL, INC | 408
LITTLE TRAVERSE BAY BANDS OF ODAWA INDIANS | 409
LITTLE WATER CHAPTER | 410
LITTLE WOUND SCHOOL | 411
LOCAL INDIAN EDUCATION COMMITTEE, INC. | 1058
LONE PINE RESERVATION | 412
LONEMAN DAY SCHOOL | 413
LOS COYOTES BAND OF INDIANS | 414
LOUDEN TRIBAL COUNCIL | 415
LOVELOCK TRIBAL COUNCIL | 416
LOW MOUNTAIN | 417
LOW MOUNTAIN BOARDING SCHOOL | 972
LOWER BRULE DAY SCHOOL | 418
LOWER GREASEWOOD CHAPTER | 421
LOWER KALSKAG VILLAGE | 422
LOWER SIOUX INDIAN COMMUNITY COUNCIL | 423
LOWER SIOUX INDIAN COMMUNITY OF MINNESOTA | 424
LUKACHUKAI BOARDING SCHOOL | 973
LUKACHUKAI CHAPTER | 425
LUMMI COMMUNITY COLLEGE | 1059
LUMMI TRIBAL SCHOOL SYSTEM | 427
LUPTON CHPTER | 428
LYTTON BAND OF POMO INDIANS | 429
MAKAH TRIBE | 432
MANCHESTER-POINT ARENA BAND OF POMO INDIANS | 433
MANDAREE DAY SCHOOL | 434
MALEY HOT SPRINGS VILLAGE | 436
MAOKOTAK VILLAGE | 437
MANUELITO CHAPTER | 438
MANY FARMS CHAPTER | 439
MANY FARMS HIGH SCHOOL | 974
MARIANO LAKE CHAPTER | 441
MARIANO LAKE COMMUNITY SCHOOL | 975
MARSHALL VILLAGE | 442
MARTY INDIAN SCHOOL | 443
MARYSVILLE JOINT UNION SCHOOL DISTRICT | 444
MC GRATH NATIVE VILLAGE | 446
MECHOOPDA INDIAN TRIBE | 447
MEDICINE CREEK TRIBAL COLLEGE | 976
MEKORYUK VILLAGE (IRA) | 448
MENOMINEE FORESTRY CENTER | 449
MENOMINEE TRIBAL SCHOOL | 451
MENTASTA LAKE VILLAGE | 452
MESCALERO APACHE SCHOOL | 454
MEXICAN SPRINGS CHAPTER | 457
MICCOSUKEE INDIAN SCHOOL | 460
MIDDLETOWN RANCHERIA OF POMO INDIANS | 462
MINTO VILLAGE (IRA) | 465
MODOC TRIBE OF OKLAHOMA | 468
MOENCOPI DAY SCHOOL | 977
MOHAVE-APACHE COMMUNITY COUNCIL | 469
MOHEGAN TRIBE OF INDIANS OF CONNECTICUT | 470
MORONGO BAND OF MISSION INDIANS | 472
MUCKLESHOOT TRIBAL SCHOOL | 474
NAGEEZI CHAPTER | 476
NAHODISHGISH/DALTON PASS CHAPTER | 477
NAKNEK VILLAGE | 478
NA'NEELZHIIN JI'OLTA (TORREON) | 978
NANWALEK VILLAGE (IRA) | 480
NAPAIMUTE VILLAGE | 481
NAPAKIAK VILLAGE (IRA) | 482
NAPASKIAK VILLAGE | 483
NASCHITTI CHAPTER | 485
NATIVE AMERICAN FAMILY SERVICES INC | 486
NATIVE AMERICAN FISH & WILDLIFE SOCIETY | 1061
NATIVE VILLAGE OF EYAK | 239
NATIVE VILLAGE OF FORT YUKON | 260
NATIVE VILLAGE OF GOODNEWS BAY | 267
NATIVE VILLAGE OF KALSKAG | 341
NATIVE VILLAGE OF KIVALINA | 367
NATIVE VILLAGE OF KOTZEBUE (KOTZEBUE VILLAGE (IRA) | 380
NATIVE VILLAGE OF KOYUK (IRA) | 381
NATIVE VILLAGE OF POINT LAY (IRA) | 586
NATIVE VILLAGE OF PORT LIONS | 596
NATIVE VILLAGE OF SAVOONGA IRA | 687
NATIVE VILLAGE OF SOUTH NAKNEK, SOUTH NAKNEK VILLA | 736
NAVAJO MISSION ACADEMY | 1062
NAVOJO MOUNTAIN | 487
NAVAJO MOUNTAIN COMMUNITY SCHOOL | 979
NATIVE VILLAGE OF KASAAN (IRA) | 346
NATIVE VILLE OF SHAKTOOLIK (IRA) | 702
NAY-AH-SHING SCHOOL | 490
NAZJINI BOARDING SCHOOL | 980
NAZLINI CHAPTER | 491
NEBRASKA INDIAN COMMUNITY COLLEGE | 981
NELSON LAGOON VILLAGE | 492
NENAHNEZAD COMMUNITY SCHOOL | 982
NENAHNEZAH CHAPTER | 493
NENANA NATIVE COUNCIL | 494
NEW KOLIGANEK VILLAGE COUNCIL | 496
NEW LANDS (HAHATHDZILL) CHAPTER | 497
NEW STUYAHOK VILLAGE | 498
NEWCOMB CHAPTER | 499
NEWHALEN VILLAGE | 500
NEWTOK VILLAGE | 501
NIGHTMUTE VILLAGE | 503
NIKOLAI VILLAGE | 504
NIKOLSKI VILLAGE (IRA) | 505
NOATAK VILLAGE (IRA) | 508
NOLI SCHOOL | 509
NOME ESKIMO COMMUNITY | 510
NONDALTON VILLAGE | 512
NOOKSACK INDIAN TRIBAL COUNCIL | 513
NOORVIK VILLAGE (IRA) | 514
NORTH FORK RANCHERIA OF MONO INDIANS | 516
NORTH PACIFIC RIM | 1064
NORTHERN PUEBLOS TRIBUTARY WATER RIGHTS ASSOC. | 517
NORTHWAY VILLAGE | 520
NOTTAWASEPPI HURON POTAWATOMI BAND | 523
NOY-AH-SHING SCHOOL | 984
NUIQSUT VILLAGE | 524
NULATO VILLAGE | 525
NUNAPITCHUK VILLAGE (IRA) | 526
OAK/PINE SPRINGS CHAPTER | 527
OHKAY OWINGETH COMMUNITY SCHOOL (SAN JUAN) | 985
OHOGAMIUT VILLAGE | 529
OJIBWA INDIAN SCHOOL | 530
OJO ENCINO CHAPTER | 531
OJO ENCINO DAY SCHOOL | 986
OLD HARBOR VILLAGE | 532
OLJATO CHAPTER | 533
ONEIDA INDIAN NATION OF NEW YORK | 535
ONEIDA TRIBAL SCHOOL | 537
ONONDAGA NATION | 538
ORUTSARARMUIT NATIVE COUNCIL | 539
OSCARVILLE VILLAGE | 541
OTOE MISSOURIA TRIBE OF OKLAHOMA | 1060
OTTAWA TRIBE OF OKLAHOMA | 543
OUZINKIE VILLAGE | 544
OWENS VALLEY CAREER DEVELOP CENTER | 545
OWENS VALLEY INDIAN WATER COMMISSION | 546
PAIMIUT VILLAGE | 547
PAIUTE-SHOSHONE INDIANS OF THE LONE PINE COMMUNITY | 549
PALA BAND OF MISSION INDIANS | 550
PASCHAL SHERMAN INDIAN SCHOOL | 551
PASKENTA BAND OF NOMELAKI INDIANS | 553
PASSAMAQUODDY TRIBE—INDIAN TOWNSHIP | 554
PAULOFF HARBOR VILLAGE | 556
PEARL RIVER ELEMENTARY SCHOOL | 987
PECHANGA BAND OF LUSIENO MISSION INDIANS | 559
PEDRO BAY VILLAGE | 560
PEORIA TRIBE OF INDIANS OF OKLAHOMA | 562
PERRYVILLE VILLAGE (IRA) | 563
PETERSBURY INDIAN ASSN (IRA) | 564
PICAYUNE RANCHERIA OF CHUKCHANSI INDIANS | 565
PIERRE INDIAN LEARNING CENTER | 567
PILOT POINT VILLAGE | 568
PILOT STATION VILLAGE | 569
PINE DALE CHAPTER | 570
PINE HILL DAY SCHOOL | 571
PINE HILL SCHOOL | 988
PINE RIDGE SCHOOL | 989
PINE SPRINGS COMMUNITY SCHOOL | 990
PINOLEVILLE BAND OF POMO INDIANS | 572
PINON CHAPTER | 573
PINON COMMUNITY SCHOOL BOARD INC | 574
PINON DORMITORY | 991
PIT RIVER TRIBE OF CALIFORNIA | 575
PIT RIVER TRIBE OF CALIFORNIA—BIG BEND | 576
PIT RIVER TRIBE OF CALIFORNIA—LIKELY | 577
PIT RIVER TRIBE OF CALIFORNIA—LOOKOUT | 578
PIT RIVER TRIBE OF CALIFORNIA—MONTGOMERY CREEK | 579
PIT RIVER TRIBE OF CALIFORNIA—ROARING CREEK | 580
PIT RIVER TRIBE OF CALIFORNIA—XL | 581
PITKA'S POINT VILLAGE | 582
PLATINUM TRADITIONAL VILLAGE | 583
POINT HOPE VILLAGE (IRA) | 585
POJOAQUE PUEBLO | 588
POKAGON BAND OF POTAWATOMI INDIANS OF MICHIGAN | 589
POLACCA DAY SCHOOL | 992
PONCA TRIBE OF NEBRASKA | 590
PORCUPINE SCHOOL | 592
PORT GRAHAM VILLAGE COUNCIL | 594
PORT HEIDEN VILLAGE | 595
PORTAGE CREEK VILLAGE | 597
POTTER VALLEY RANCHERIA OF POMO INDIANS | 598
PRAIRIE ISLAND COMMUNITY COUNCIL | 600
PUEBLO PINTADO | 602
PUEBLO PINTADO COMMUNITY SCHOOL | 993
PYRAMID LAKE HIGH SCHOOL | 605
QAGUN TAYAGUNGIN SAND POINT | 607
QAWALANGIN TRIBE (OF UNALASKA) | 608
QUARTZ VALLEY INDIAN RESERVATION | 610
QUILEUTE TRIBAL SCHOOL | 613
QUTEKCAK NATIVE TRIBE | 1041
RAMAH-NAVAJO CHAPTER | 616
RAMONA | 617
RAMONA BAND OF MISSION INDIANS | 618
RAMPART VILLAGE | 619
REAL RIVER ELEMENTARY SCHOOL | 620
RED DEVIL VILLAGE | 622
RED HORSE LODGE | 1067
RED LAKE CHAPTER | 624
RED MESA CHAPTER | 625
RED MESA TRADING POST #1019 | 458
RED ROCK CHAPTER | 626
RED ROCK DAY SCHOOL | 994
RED SCAFFOLD SCHOOL | 1068
RED VALLEY CHAPTER | 627
RED WATER ELEMENTARY SCHOOL | 628
RESERVATION FIRE PROTECTION DISTRICT | 632
RICHFIELD RESIDENTIAL HALL, INC. | 633
RINCON BAND OF LUISENO INDIANS | 634
RIVERSIDE INDIAN SCHOOL | 995
ROBINSON RANCHERIA | 635
ROBINSON RANCHERIA | 636
ROCK CREEK DAY SCHOOL | 996
ROCK POINT CHAPTER | 637
ROCK SPRINGS CHAPTER | 639
ROCKY BOYS SCHOOL | 1069
ROCKY RIDGE BOARDING SCHOOL | 997
ROSEBUD DORMITORIES | 640
ROSELAND SCHOOL DISTRICT | 642
ROUGH ROCK CHAPTER | 643
ROUGH ROCK SCHOOL BOARD, INC. | 644
ROUND ROCK CHAPTER | 645
ROUND VALLEY TRIBES | 646
ROUNDHOUSE COUNCIL | 647
RUBY VILLAGE | 648
RUMSEY INDIAN RANCHERIA | 649
SAC & FOX SETTLEMENT SHCOOL | 650
SAC AND FOX NATION OF MISSOURI IN KS AND NE | 652
SAC AND FOX TRIBE OF THE MISSISSIPPI IN IOWA | 654
SAINT GEORGE VILLAGE | 656
SAINT MICHAEL VILLAGE (IRA) | 657
SAINT PAUL VILLAGE | 658
SALAMATOF VILLAGE | 659
SALT RIVER DAY SCHOOL | 999
SAMISH TRIBE OF INDIANS | 661
SAN FELIPE PUEBLO ELEMENTARY SCHOOL | 1000
SAN ILDEFONSO DAY SCHOOL | 1001
SAN ILDEFONSO PUEBLO | 664
SAN JUAN CHAPTER | 665
SAN LORENZO UNIFIED SCHOOL DISTRICT | 668
SAN MANUEL BAND OF MISSION INDIANS | 669
SAN PASQUAL BAND OF MISSION INDIANS | 670
SAN SIMON SCHOOL | 1002
SAN XAVIER DISTRICT OF THE TOHONO O'ODHAM NATION | 671
SANDIA PUEBLO | 672
SANOSTEE CHAPTER | 673
SANOSTEE DAY SCHOOL | 1003
SANTA CLARA PUEBLO | 675
SANTA CLARA PUEBLO | 1004
SANTA CLARA UNIFIED SCHOOL DISTRICT | 676
SANTA FE INDIAN SCHOOL, INC. | 677
SANTA ROSA BAND OF CAHUILLA INDIANS | 678
SANTA ROSA BOARDING SCHOOL | 1005
SANTA ROSA INDIAN COMMUNITY | 679
SANTA ROSA RANCH SCHOOL | 1006
SANTA YNEZ BAND OF MISSION INDIANS | 680
SANTA YNEZ INDIAN HEALTH CLINIC | 681
SANTA YSABEL BAND OF DIEGUENO INDIANS | 682
SANTO DOMINGO TRIBE | 684
SAWMILL CHAPTER | 688
SAXMAN VILLAGE (IRA) | 689
SCAMMON BAY VILLAGE | 690
SCOTTS VALLEY BAND OF POMO INDIANS | 691
SEBA DALKAI BOARDING SCHOOL | 1007
SECOND MESA DAY SCHOOL | 692
SELAWIK VILLAGE (IRA) | 693
SELDOVIA VILLAGE TRIBE | 694
SEQUOYAH HIGH SCHOOL | 1008
SHAGELUK VILLAGE (IRA) | 699
SHAKOPEE MDEWAKANTON SIOUX COMMUNITY | 700
SHAKOPEE SIOUX BUSINESS COUNCIL | 701
SHEEP RANCH BAND OF ME-WUK INDIANS | 703
SHEEPSPRINGS CHAPTER | 704
SHELDON POINT VILLAGE | 705
SHINGLE SPRINGS RANCHERIA | 707
SHIPROCK CHAPTER | 708
SHIPROCK DIRECTOR OF EDUCATION | 1038
SHIPROCK NORTHWEST HIGH SCHOOL | 709
SHIPROCK RESERVATION DORMITORY | 710
SHISHMAREF VILLAGE (IRA) | 711
SHO-BAN SCHOOL DISTRICT NO. 512 | 713
SHONTO CHAPTER | 714
SHONTO PREPARATORY SCHOOL | 715
SHOSHONE PAIUTE BUSINESS COUNCIL | 717
SHUNGNAK VILLAGE (IRA) | 719
SINTE GLESKA UNIVERSITY | 1009
SIOUX CITY INDIAN EDUCATION COMMITTEE | 1070
SISSETON WAHPETON COMMUNITY COLLEGE | 1010
SITTING BULL COIMMUNITY COLLEGE (formerly Standing Rock) | 1073
SITTING BULL COLLEGE | 1011
SKAGWAY TRADITIONAL COUNCIL | 723
SKULL VALLEY BAND OF GOSHUTE INDIANS | 725
SKULL VALLEY GENERAL COUNCIL | 726
SKY CITY COMMUNITY SCHOOL | 1012
SLEETMUTE VILLAGE | 727
SMITH LAKE CHAPTER | 728
SMITH RIVER RANCHERIA OF CALIFORNIA | 729
SOBOBA BAND OF MISSION INDIANS | 730
SOBOBO BAND OF MISSION INDIANS | 731
SOKAOGON CHIPPEWA TRIBAL COUNCIL | 732
SOLOMON TRADITIONAL COUNCIL | 733
SOLOMON VILLAGE | 734
SOUTH FORK BAND COUNCIL | 735
SOUTHERN CALIFORNIA INDIAN CENTER | 737
SOUTHERN CALIFORNIA TRIBAL CHAIRMAN'S ASSOCIATION | 738
SOUTHERN INDIAN HEALTH COUNCIL INC | 1013
SOUTHWESTERN INDIAN POLYTECHNIC INSTITUTE | 1013
ST. GEORGE ISLAND | 745
ST. FRANCIS INDIAN SCHOOL | 744
ST. MICHAELS ASSOCIATION FOR SPECIAL EDUCATION, IN | 748
STANDING PINE ELEMENTARY SCHOOL | 750
STANDING ROCK CHAPTER | 751
STANDING ROCK COMMUNITY SCHOOL | 1014
STEAMBOAT | 754
STEBBINS VILLAGE (IRA) | 755
STEVENS VILLAGE (IRA) | 756
STEWART COMMUNITY COUNCIL | 757
STEWART POINT RANCHERIA | 758
STOCKTON UNIFIED SCHOOL DISTRICT | 761
STONE CHILD COMMUNITY COLLEGE | 1015
STONEY RIVER VILLAGE | 762
SUMMERVILLE ELEMENTARY SCHOOL | 763
SWEETWATER CHAPTER | 767
SYCUAN BAND OF MISSION INDIANS | 769
TABLE BLUFF RESERVATION OF WIYOT INDIANS | 770
TABLE MOUNTAIN RANCHERIA | 771
TACHEE/BLUE GAP CHAPTER | 772
TAKINA SCHOOL | 773
TAKOTNA VILLAGE | 774
TANACROSS VILLAGE (IRA) | 775
TANANA VILLAGE | 777
TAOS DAY SCHOOL | 1016
TATITLEK VILLAGE (IRA) | 780
TAZLINA VILLAGE | 781
TE TSU GEH OWEENGE DAY SCHOOL (TESUQUE) | 1017
TEECNOSPOS CHAPTER | 782
TEESTO CHAPTER | 783
TELIDA VILLAGE | 784
TELLER VILLAGE | 785
TESUQUE PUEBLO | 787
TETLIN VILLAGE (IRA) | 788
THEODORE JAMERSON ELEMENTARY SCHOOL | 790
THEODORE ROOSEVELT SCHOOL | 791
THLOPTHLOCCO TRIBAL TOWN | 792
THOREAU CHAPTER | 793
T'IIS NAZBAS COMMUNITY SCHOOL (TEECNOSPOS) | 1018
T'IISTS'OOZJ'BI'OLTA (CROWNPOINT) | 1019
TIMBISHA SHOSHONE BAND | 795
TIOSPAYE TOPA SCHOOL | 1020
TOGIAK VILLAGE | 797
TOHAAII' COMMUNITY SCHOOL (TOADLENA) | 1021
TO'HAJFILEE-HE (CANONCITO) | 1022
TOHATCHI CHAPTER | 798
TOHONO O'ODHAM HIGH SCHOOL | 1023
TOHONO O'ODHAM HOUSING AUTHORITY | 799
TOKSOOK BAY VILLAGE | 802
TOLANI LAKE CHAPTER | 803
TONALEA CHAPTER | 804
TONALEA DAY SCHOOL (RED LAKE) | 1024
TONAWANDA BAND OF SENECAS | 805
TONTO APACHE TRIBAL COUNCIL | 807
TORREON/STAR LAKE CHAPTER | 808
TRENTON SCHOOL | 810
TRINIDAD RANCHERIA | 811
TSAILE/WHEATFIELDS CHAPTER | 812
TSAYATOH CHAPTER | 813
TSE'II'AHI' COMMUNITY SCHOOL (STANDING ROCK) | 1025
TSELANI/COTTONWOOD CHAPTER | 814
TUBA CITY CHAPTER | 815
TUBA HIGH SCHOOL BOARD, INC. | 1026
TUCKER ELEMENTARY SCHOOL | 816
TULUKSAK VILLAGE (IRA) | 819
TUNTUTULIAK VILLAGE | 821
TUNUNAK VILLAGE (IRA) | 822
TUOLUMNE RANCHERIA | 823
TURNING POINT | 1073
TURTLE MOUNTAIN COMMUNITY COLLEGE | 1027
TURTLE MOUNTAIN ELEMENTARY SCHOOL | 1028
TURTLE MOUNTAIN HIGH SCHOOL | 826
TURTLE MOUNTAIN MIDDLE SCHOOL | 1029
TUSCARORA NATION | 827
TUSCARORA NATION | 828
TWENTY-NINE PALMS BAND OF MISSION INDIANS | 829
TWIN BUTTES DAY SCHOOL | 830
TWIN HILLS VILLAGE | 831
TWIN LAKES CHAPTER | 832
TWO EAGLE RIVER SCHOOL | 833
TWO GREY HILLS CHAPTER | 834
TYONEK VILLAGE (IRA) | 835
UGASHIK VILLAGE | 837
UINTAH AND OURAY TRIBAL BUSINESS COMMITTEE | 838
UMKUMIUT NATIVE VILLAGE | 839
UNALAKLEET VILLAGE (IRA) | 840
UNGA TRIBAL COUNCIL | 841
UNGA VILLAGE | 842
UNITED AUBURN INDIAN COMMUNITY | 843
UNITED CROW BAND INC | 844
UNITED KEETOOWAH BAND IN OKLAHOMA | 845
uNITED VILLAGES INC | 848
UPPER FRUITLAND CHAPTER | 849
UPPER LAKE BAND OF POMO INDIANS | 850
UPPER LAKE RANCHERIA | 851
VENETIE TRIBAL GOVERNMENT | 857
VENETIE VILLAGE (IRA) | 858
VIEJAS (BARON LONG) | 859
VIEJAS BAND OF THE KUMEYAAY NATION | 860
WA HE LUT INDIAN SCHOOL | 1030
WAINWRIGHT VILLAGE | 862
WALES VILLAGE (IRA) | 863
WASHOE TRIBE—CARSON COLONY COMMUNITY COUNCIL | 866
WASHOE TRIBE—DRESSLERVILLE COMMUNITY COUNCIL | 867
WASHOE TRIBE—STEWART COMMUNITY COUNCIL | 868
WASHOE TRIBE—WOODFORDS COLONY | 869
WELLS INDIAN COLONY BAND COUNCIL | 871
WESTERN APACHE CONSTRUCTION COMPANY | 872
WHIPPOORWILL | 873
WHITE CONE | 874
WHITE MOUNTAIN VILLAGE (IRA) | 877
WHITE ROCK CHAPTER | 878
WHITE SHIELD SCHOOL | 879
WHITEHORSE LAKE | 880
WICHITA AND AFFILIATED TRIBES | 882
WIDE RUINS CHAPTER | 883
WIDE RUINS COMMUNITY SCHOOL | 1031
WINGATE ELEMENTARY SCHOOL | 1032
WINNEMUCCA COLONY INDIAN RESERVATION | 885
WINSLOW DORMITORY | 1034
WOODFORDS COMMUNITY COUNCIL | 886
WOUNDED KNEE DISTRICT SCHOOL | 1035
WOUNDED KNEE DISTRICT SCHOOL, OGLALA LAKOTA TREATY | 887
WRANGELL COOPERATIVE ASSN (IRA) | 888
YAKAMA TRIBAL SCHOOL | 891
YAVAPAI-APACHE NATION | 894
YUPIIT OF ANDEREAFSKI | 899
YUROK TRIBE OF CALIFORNIA | 900
ZIA DAY SCHOOL | 1036

Attachment B.—United States District Court for the District of New Mexico

Ramah Navajo Chapter, et al., v. Gale Norton, et al.

[CIV No. 90-00957 LH/WWD]

Second Partial Settlement Agreement Claim Form

REDW, LLC, Ramah Navajo Chapter Class Action Settlement Administrator, 6401 Jefferson NE., Post Office Box 93659, Albuquerque, New Mexico 87199-3659, 1-888-726-9418

Introduction, Instructions, and Definitions

To share in this settlement this claim form must be returned to the above address and postmarked no later than sixty (60) days after publication of this notice in the Federal Register.

All claim forms must be signed and notarized by a responsible official of the organization under penalty of perjury.

The Second Partial Settlement Agreement (PSA-2) may be obtained from the class settlement Web site at http://www.rncsettlement.com or by calling the Settlement Administrator at 1-888-726-9418.

All Class Members who wish to share in the Second Partial Settlement Agreement in this case must complete the claimant information in Section I. Only school grantees must complete Section II.

Special Instructions

1. If you do not agree with the base amount shown on the attached Provisional List for your organization for FY/CY 1993, please submit a letter stating why you do not agree with the amount shown and provide the amount that you believe is correct, with supporting documentation. The Settlement Administrator has discretion to accept or reject such documentation or to seek further clarification or documentation.

2. If you did not receive a share of the First Partial Settlement in this case for the year 1993 please submit your 1993 documentary evidence, along with the completed claim form.

3. If you did not have any BIA funding expenditures for the year 1993 but did have BIA funding expenditures for 1992 or 1994, or both, please complete the claim form for the years that you meet the requirements as set forth below and attach your entity's supporting documentation.

Information provided to the settlement Administrator will be reviewed for adequacy and accuracy. Class Members shall be required to timely provide to the Independent CPA and data and documentation as may be required to demonstrate their eligibility.

Definitions

(1) Documentary evidence to support a claim includes the Schedule of Federal Financial Assistance portion of audited financial statements, contract award documents, and IDC rate agreements which show actual expenditures on BIA programs under Public Law 93-638 contract for each year your entity had BIA Public Law 93-638 contracts or compacts during the settlement period (1992-1994). The Schedule of Federal Financial Assistance will control over all other data and must be provided if it exists.

(2) For purposes of PSA-2, the definition of construction contained in 25 U.S.C. § 450b(a) (“Construction Programs”) will be used: “Construction” means—programs for the planning, design, construction, repair, improvement, and expansion of buildings or facilities, including but not limited to, housing, law enforcement and detection facilities, sanitation and water systems, roads, schools, administration and health facilities, irrigation and agricultural work, and water conservation, flood control and port facilities.

Construction Expenditures above $100,000 will not be included in the “BIA Expenditures” amount used to calculate class members' share under PSA-2.

[Please note that an exclusion of certain construction activities was later added at 25 U.S.C. § 450b(m) from this definition. That change did not become law until after the close of FY 1994, hence those later exclusions for “construction purposes” will not be recognized in calculating shares under this settlement. This means that HIP expenditures and construction planning costs for construction must be included as part of construction expenditures on this form.]

Forms

Attached is the Claim form which must be submitted by a duly authorized official of the tribe or tribal organization under penalty of perjury.

All Class Members must complete Section 1 of this form in order to receive a share of this settlement. Section II applies only to school grantees.

Special Requirements for Direct Contract Support Survey Tribes and Tribal Organizations

If your tribe or entity participated in the survey of direct contract support costs in the year 2000, you can receive reimbursement of your out-of-pocket expenditures connected with the survey by submitting a separate statement with receipts or other documents of your incurred costs. A list of tribes who participated in the survey is attached to this form.

Questions may be directed to the Independent CPA at REDW, LLC, Ramah Navajo Chapter Class Action Settlement Administrator, 6401 Jefferson NE., Post Office Box 93659, Albuquerque, New Mexico 87199-3659, 1-888-726-9418, fax (505) 998-3333, E-mail: rncsettlement@redw.com.

Class Members Who Participated in the DCSC Survey

Bristol Bay Native Association

Burns Paiute Tribes

Central Council of Tlingit & Haida Indian Tribes of Alaska

Confederated Tribes of the Colville Reservation

Grand Traverse Band of Ottawa and Chippewa Indians

Great Lakes Indian Fish & Wildlife Commission

Hoopa Valley Tribal Council

Jamestown S'Klallam Tribe

Klamath Tribes

Lac Courte Oreilles

Lac de Flambeau Band of Lake Superior Chippewa Indians

Lummi Indian Business Council

Mescalero Apache Tribe

Miccosukee Corporation

Mississippi Band of Choctaw Indians

Nambe Pueblo

Nez Perce Tribe

North Slope Borough School District

Northwest Indian Fisheries Commission

Penobscot Indian Nation

Pueblo of Zuni

Quinault Indian Nation

Ramah Navajo Chapter

Red Lake Band of Chippewa Indians

Sac & Fox Nation

Sinte Gleska University

Southern Ute Indian Tribe

Tanana Chiefs Conference, Inc.

Tohono O'Odham Nation

BILLING CODE 4310-4J-P

[FR Doc. 03-12165 Filed 5-14-03; 8:45 am]

BILLING CODE 4310-4J-C